DEPARTMENT OF ENERGY

Federal Energy Regulatory Commission

[Docket No. PF06-19-000]

Questar Overthrust Pipeline Company; Notice of Intent To Prepare an Environmental Impact Statement for the Proposed Wamsutter Expansion Project, Request for Comments on Environmental Issues, and Notice of Public Scoping Meeting

April 3, 2006.

The staff of the Federal Energy Regulatory Commission (FERC or Commission) will prepare an environmental impact statement (EIS) that discusses the environmental impacts of the proposed Wamsutter Expansion Project (the Project). This project involves the construction and operation of facilities by Questar Overthrust Pipeline Company (Overthrust) in Lincoln and Sweetwater Counties, Wyoming. These facilities would include approximately 77 miles of 36-inch-diameter natural gas pipeline, two new compressor stations, two new receipt points, and one new delivery point.

The Wamsutter Expansion Project is a necessary and supporting component of the overall Rockies Express Pipeline Project, Western Phase, currently under review in the Commission's Pre-Filing Process in Docket No. PF06-3-000. Therefore, the environmental analysis for the Wamsutter Expansion Project will be incorporated into the EIS being prepared for the Rockies Express Pipeline Project. The EIS will be used by the Commission in its decision-making process to determine whether the proposed facilities are in the public convenience and necessity.

This notice explains the scoping process that will be used to gather input from the public and interested agencies on the Project. Your input will help FERC staff determine which issues/impacts associated with the Project need to be evaluated in the EIS. Please note that the scoping period for the Project will close on May 5, 2006.

Comments may be submitted in written form or verbally. In lieu of or in addition to sending written comments, you are invited to attend the public scoping meeting that has been scheduled in the Project area. One scoping meeting is scheduled for April 24, 2006, in Rock Springs, Wyoming. Further instructions on how to submit written comments and additional details of the public scoping meeting are provided in the public participation section of this notice.

The Wamsutter Expansion Project is currently in the preliminary stages of design, and at this time a formal application has not been filed with the Commission. For this proposal, the Commission is initiating the National Environmental Policy Act (NEPA) review prior to receiving the application. This allows interested stakeholders to become involved early in Project planning and to identify and resolve issues before an application is filed with the FERC. A docket number (PF06-19-000) has been established to place information filed by Overthrust and related documents issued by the Commission into the public record. ¹ Once a formal application is filed with the FERC, a new docket number will be established.

¹ To view information in the docket, follow the instructions for using the eLibrary link at the end of this notice.

The Bureau of Land Management (BLM) is participating as a cooperating agency in the preparation of the EIS because the Project would cross Federal land under the jurisdiction of the Rawlins, Rock Springs, and Kemmerer Field Offices. The EIS will be used by the BLM to meet its NEPA responsibilities in considering Overthrust's application for the portion of the Project on Federal land.

With this notice, we ² are asking other Federal, State, and local agencies with jurisdiction and/or special expertise with respect to environmental issues in the Project area to formally cooperate with us in the preparation of the EIS. These agencies may choose to participate once they have evaluated the proposal relative to their responsibilities. Agencies that would like to request cooperating status should follow the instructions for filing comments described later in this notice. We encourage government representatives to notify their constituents of this planned Project and encourage them to comment on their areas of concern.

² “We,” “us,” and “our” refer to the environmental staff of the Office of Energy Projects.

This notice is being sent to landowners within 0.5 mile of the proposed compressor stations; landowners along the pipeline route under consideration; Federal, State, and local government agencies; elected officials; environmental and public interest groups; Native American tribes; local libraries and newspapers; and other interested parties.

Some affected landowners may be contacted by a Project representative about the acquisition of an easement to construct, operate, and maintain the proposed facilities. If so, Overthrust and the affected landowners should seek to negotiate a mutually acceptable agreement. In the event that the Project is certificated by the Commission, that approval conveys the right of eminent domain for securing easements for the facilities. Therefore, if easement negotiations fail to produce an agreement, Overthrust could initiate condemnation proceedings in accordance with Wyoming state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

Overthrust proposes to construct and operate the following facilities as part of its proposed Wamsutter Expansion Project:

• Construct approximately 77 miles of buried 36-inch-diameter pipeline extending from the eastern terminus of Overthrust's existing transmission system at Kanda in Sweetwater County, Wyoming, to an interconnect with the Entrega Gas Pipeline, Inc. (Entrega) system near Wamsutter in Sweetwater County.

• Construct two new compressor stations:

○ Roberson Compressor Station—20,000 horsepower (hp) in Lincoln County.

○ Rock Springs Compressor Station—15,000 hp in Sweetwater County.

• Install two new receipt points with metering facilities in Lincoln County and one new delivery point in Sweetwater County.

Maps depicting the general location of the Project facilities are shown in appendix 1.³

³ The appendices referenced in this notice are not being printed in the Federal Register. Copies are available from the Commisson's Public Reference and Files Maintenance Branch, at (202) 502-8371. For instructions on connecting to eLibrary refer to the last page of this Notice.

Overthrust is requesting approval such that the facilities are completed and placed into service by December 31, 2007. Construction of the facilities would take about 8 months.

The EIS Process

NEPA requires the Commission to take into account the environmental impacts that could result from an action whenever it considers the issuance of a Certificate of Public Convenience and Necessity under Section 7 of the Natural Gas Act. NEPA also requires us to identify and address concerns the public would have about proposals. This process is referred to as “scoping.” The main goal of the scoping process is to focus the analysis in the EIS on important environmental issues and reasonable alternatives. By this Notice of Intent, the Commission staff requests agency and public comments on the scope of the issues to be addressed in the EIS. All comments received are considered during the preparation of the EIS.

We have already started to meet with Overthrust, agencies, and other interested stakeholders to discuss the Project and identify issues/impacts and concerns. On April 6, 2006, FERC staff will participate in the public open house sponsored by Overthrust in the Project area to explain the NEPA environmental review process to interested stakeholders and take comments about the Project.

Our independent analysis of the issues will be included in the draft EIS. The draft EIS will be published and mailed to Federal, State, and local agencies, Native American tribes, public interest groups, interested individuals, affected landowners, newspapers, libraries, and the Commission's official service list for this proceeding. A comment period will be allotted for review of the draft EIS. We will consider all timely comments on the draft EIS and revise the document, as necessary, before issuing a final EIS.

To ensure your comments are considered, please carefully follow the instructions in the public participation section beginning on page 5.

Currently Identified Environmental Issues

We have identified several issues that we think deserve attention based on a preliminary review of the proposed facilities and the information provided by Overthrust. This preliminary list of issues may be changed based on your comments and our analysis.

• Soils:

—Erosion control.

—Introduction or spread of noxious weeds.

• Fish, Wildlife, and Vegetation:

—Impact on migratory birds and big game species.

—Impact on fish from stream crossings.

• Endangered and Threatened Species:

—Potential impact on federally listed species.

• Cultural Resources:

—Impact on known and undiscovered cultural resources.

—Native American and tribal concerns.

• Air Quality and Noise:

—Effects on local air quality and ambient noise from construction and operation of the proposed facilities.

We will make recommendations on how to lessen or avoid impacts on these and other resource areas and evaluate possible alternatives to the proposed Project or portions of the Project.

Public Participation

You are encouraged to become involved in this process and provide your specific comments or concerns about Overthrust's proposal. Your comments should focus on the potential environmental effects, reasonable alternatives, and measures to avoid or lessen environmental impacts. The more specific your comments, the more useful they will be. To expedite the receipt and consideration of your comments, electronic submission of comments is strongly encouraged. See Title 18 CFR 385.2001(a)(1)(iii) and the instructions on the FERC Internet Web site (http://www.ferc.gov) under the eFiling link and the link to the User's Guide. Before you can submit comments you will need to create a free account by clicking on “Sign-up” under “New User.” You will be asked to select the type of submission you are making. This type of submission is considered a “Comment on Filing.” Comments submitted electronically must be submitted by May 5, 2006.

If you wish to mail comments, please carefully follow these instructions:

• Send an original and two copies of your letter to: Magalie R. Salas, Secretary, Federal Energy Regulatory Commission, 888 First St., NE., Room 1A, Washington, DC 20426.

• Label one copy of the comments for the attention of Gas Branch 1.

• Reference Docket No. PF06-19-000 on the original and both copies.

• Mail your comments so that they will be received in Washington, DC on or before May 5, 2006.

In addition to or in lieu of sending written comments, we invite you to attend the public scoping meeting we will conduct in the Project area. The location and time for this meeting is as follows:

April 24, 2006 (7 p.m.) Quality Inn, 1670 Sunset Dr., Rock Springs, WY 82901, 307-382-9490.

The public scoping meeting is designed to provide State and local agencies, interested groups, affected landowners, and the general public with another opportunity to offer your comments on the proposed Project. Interested groups and individuals are encouraged to attend the meeting and to present comments on the environmental issues they believe should be addressed in the EIS. A transcript of the meeting will be made so that your comments will be accurately recorded.

All public meetings are posted on the Commission's calendar located at http://www.ferc.gov/EventCalendar/EventsList.aspx along with other related information.

Environmental Mailing List

If you received this notice, you are on the environmental mailing list for this Project and will continue to receive Project updates including the draft and final EISs. If you want your contact information corrected or you do not want to remain on our mailing list, please return the Correct or Remove From Mailing List Form included as Appendix 2.

To reduce printing and mailing costs the draft and final EISs will be issued in both CD-ROM and hard copy formats. The FERC strongly encourages the use of the CD-ROM format in its publication of large documents. If you wish to receive a paper copy of the draft EIS instead of a CD-ROM, you must indicate that choice on the return postcard (Appendix 2).

Additional Information

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-5289 Filed 4-10-06; 8:45 am]

BILLING CODE 6717-01-P